DEPARTMENT OF AGRICULTURE

Food and Nutrition Service

Agency Information Collection Activities; Comment Request; Supplemental Nutrition Assistance Program Pre-Screening Tool

AGENCY: Food and Nutrition Service (FNS), USDA.

ACTION: Notice.

SUMMARY: In accordance with the Paperwork Reduction Act of 1995, this notice invites the general public and other public agencies to comment on this proposed information collection. This is a revision of a currently approved collection for a web-based pre-screening tool used by the general public to determine potential eligibility for Supplemental Nutrition Assistance Program (SNAP) benefits.

DATES: Written comments must be received on or before February 6, 2018.

ADDRESSES: Comments may be sent to: Sasha Gersten-Paal, Branch Chief, Certification Policy Branch, Program Development Division, Food and Nutrition Service, U.S. Department of Agriculture, 3101 Park Center Drive, Room 812 Alexandria, VA 22302. Comments may also be submitted via fax to the attention of Sasha Gersten-Paal at 703-305-2507 or via email to Sasha.Gersten-Paal@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Sasha Gersten-Paal at 703-305-2705.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Supplemental Nutrition Assistance Pre-Screening Tool.

Form Number: None.

OMB Number: 0584-0519.

Expiration Date: 03/31/2018.

Type of Request: Revision of a currently approved collection.

Abstract: In June 2003, The Food and Nutrition Service (FNS) deployed an interactive web-based pre-screening tool that can be utilized by the general public to determine the potential eligibility for benefits in the Supplemental Nutrition Assistance Program (SNAP). The pre-screening tool allows the English and Spanish speaking user to enter the household size, income, expenses and resource information in order to calculate an estimated range of benefits that the household may be eligible to receive. Since SNAP eligibility and benefit amount may vary based on program options States have implemented, FNS makes it clear that the tool is only an estimator and the household will need to contact the local agency to determine actual eligibility and the associated benefit amount.

Some other data requested by the tool include:

• State or territory in which the user resides;

• Number of People: Number of people living in the household;

• First Name/Age/Disability;

• Citizenship: Whether each member is a U.S. citizen;

• Earned Income/Assets/Motor Vehicle Ownership;

• Migrant Workers: Whether anyone in the household is a seasonal or migrant farm worker;

• Homeless: Whether the household is homeless or living in a shelter;

• Utility expenses: Whether the client is billed for utility costs.

Although the tool also requests the name and age of the user, FNS does not retain this information nor does it request other personally identifiable information such as social security numbers or birthdates of the household members. Once the user logs out of the system, none of the user-provided information is retained by FNS. FNS estimates it will take approximately 380,283 users about 10 minutes (.167 hours) to provide the required information to receive potential eligibility benefit information using the pre-screening tool. Users are expected to access the system once for a total annual response of 380,283. FNS estimates 63,507 burden hours for this activity.

In reviewing SNAP participation data for FY 2014 to FY 2016, it was noticed that participation has decreased each year and this downward trajectory suggests that household participation in SNAP may continue to decline. Based on this analysis, and the number of potential applicants estimated to use the prescreening tool, FNS requests an annual burden inventory of 63,507 hours, which represents a decrease in 3,716 hours since the last extension of this collection, which approved for 67,223 hours.

Affected Public: Individuals and households, potential SNAP clients.

Estimated Number of Respondents: 380,283.

Estimated Number of Responses per Respondent: 1.

Estimated Total Annual Responses: 380,283.

Estimated Time per Response: 0.167.

Estimated Total Annual Burden on Respondents: 63,507.

OMB No. 0584-0519 | Requirement | Estimated number of respondents | Responses annually per respondent | Total annual responses | Hours per response | Annual burden hours
Affected Public | INDIVIDUAL AND HOUSEHOLDS
Potential SNAP Clients
Reporting Burden | Completion of SNAP Pre-screening Tool | 380,283 | 1 | 380,283 | 0.167 | 63,507
Reporting Totals | 380,283 | 1 | 380,283 | 0.167 | 63,507

Dated: October 23, 2017.
Brandon Lipps,
Administrator, Food and Nutrition Service.

[FR Doc. 2017-26494 Filed 12-7-17; 8:45 am]

BILLING CODE 3410-30-P